DEPARTMENT OF JUSTICE

Antitrust Division

Notice Pursuant to the National Cooperative Research and Production Act of 1993—Cooperative Research Group on the Development and Evaluation of a Gas Chromatograph Testing Protocol

Notice is hereby given that, on November 26, 2008, pursuant to section 6(a) of the National Cooperative Research and Production Act of 1993, 15 U.S.C. 4301 et seq. (“the Act”) Southwest Research Institute—Cooperative Research Group on Development and Evaluation of a Gas Chromatograph Testing Protocol (“GCTP”) has filed written notifications simultaneously with the Attorney General and the Federal Trade Commission disclosing changes in its nature and objective. The notifications were filed for the purpose of extending the Act's provisions limiting the recovery of antitrust plaintiffs to actual damages under specified circumstances. Specifically, the period of performance has been extended to December 15, 2008.

No other changes have been made in either the membership or planned activity of the group research project. Membership in this group research project remains open, and GCTP intends to file additional written notifications disclosing all changes in membership.

On March 6, 2008, GCTP filed its original notification pursuant to section 6(a) of the Act. The Department of Justice published a notice in the Federal Register pursuant to section 6(b) of the Act on April 7, 2008 (73 FR 18813).

The last notification was filed with the Department on August 26, 2008. A notice was published in the Federal Register pursuant to section 6(b) of the Act on September 29, 2008 (73 FR 56611).

Patricia A. Brink,
Deputy Director of Operations, Antitrust Division.

[FR Doc. E8-31037 Filed 12-30-08; 8:45 am]

BILLING CODE 4410-11-M